DEPARTMENT OF TRANSPORTATION

Federal Motor Carrier Safety Administration

[Docket No. FMCSA-2018-0346]

Safe Driver Apprenticeship Pilot Program To Allow Persons Ages 18, 19, and 20 To Operate Commercial Motor Vehicles in Interstate Commerce; Revision to Program Requirements

AGENCY: Federal Motor Carrier Safety Administration (FMCSA), Department of Transportation (DOT).

ACTION: Notice of revision to pilot program.

SUMMARY: The Infrastructure Investment and Jobs Act (IIJA), which was signed into law on November 15, 2021, required FMCSA to establish a pilot program that would allow employers to establish an apprenticeship program for certain 18-, 19-, and 20-year-old drivers to operate commercial vehicles in interstate commerce. FMCSA announced the establishment of the Safe Driver Apprenticeship Pilot (SDAP) Program in the Federal Register on January 14, 2022, including the requirements for motor carriers wishing to participate. This notice revises those requirements, as directed by Congress in the Consolidated Appropriations Act, 2024.

FOR FURTHER INFORMATION CONTACT: Ms. Nikki McDavid, Commercial Driver's License Division, Federal Motor Carrier Safety Administration, 1200 New Jersey Avenue SE, Washington, DC 20590-0001, nikki.mcdavid@dot.gov, (202) 366-0831. If you have questions about viewing or submitting material to the docket, call DOT Dockets Operations, (202) 366-9826.

SUPPLEMENTARY INFORMATION:

I. Background

FMCSA announced the SDAP Program in the Federal Register on January 14, 2022 (87 FR 2477). In that notice, FMCSA included motor carrier requirements for participation, including installation and use of inward facing cameras. FMCSA also included a requirement that motor carriers receive approval as a Registered Apprenticeship Program from the Department of Labor (DOL), in accordance with 29 CFR part 29.

On March 9, 2024, the President signed the Consolidated Appropriations Act, 2024 (Pub. L. 118-42). Section 422 of that Act states that FMCSA may not require motor carriers, wishing to participate in the SDAP Program, use inward facing cameras, or require them to become Registered Apprenticeships under DOL regulations.

II. Revision

In accordance with the Consolidated Appropriations Act, 2024, FMCSA will no longer require that motor carriers wishing to participate in the SDAP Program install or use inward facing cameras. Additionally, motor carriers will not be required to obtain a Registered Apprenticeship number from the Department of Labor before they will be allowed to participate in the SDAP Program.

III. Pilot Program Requirements and Procedures

Information Collection Approval

In accordance with the Paperwork Reduction Act (PRA) of 1995, FMCSA is requesting that the Office of Management and Budget (OMB) grant emergency clearance for a revision to the approved information collection titled, “Safe Driver Apprenticeship Pilot Program,” ICR Control Number 2126-0075. The emergency request updates the collection to reflect the Consolidated Appropriations Act, 2024, but notes that the expected data collection burdens on participants in the pilot program are not expected to change from those included in the collection that was approved in 2022. FMCSA requested that OMB approve the revision by April 15, 2024, to allow the changes to be in place in time for the next monthly reports for currently approved motor carriers. FMCSA is not requesting that OMB extend the approval of the collection beyond the currently approved expiration date of October 31, 2025.

Announcement of Revision to the Safe Driver Apprenticeship Pilot Program

In accordance with the Consolidated Appropriations Act, 2024, FMCSA will no longer require motor carriers wishing to participate in the SDAP Program install or use inward facing cameras. Additionally, motor carriers will not be required to obtain a Registered Apprenticeship number from the Department of Labor before they will be allowed to participate in the SDAP Program.

Motor carriers who are already participating in the SDAP Program will no longer be required to use inward facing cameras, or to maintain their approved Registered Apprenticeship program.

Motor carriers may, voluntarily, decide to install or use inward facing cameras, or become an approved Registered Apprenticeship. They may choose to include safety alerts from inward facing cameras as part of their monthly data submissions. However, they will not be required to do so, even if they choose to use inward facing cameras.

Motor Carrier Applications Available

FMCSA is accepting applications from motor carriers for the pilot program. Links for the application, which has been revised to conform with the Consolidated Appropriations Act, 2024, are available on the Agency's website at www.fmcsa.dot.gov. FMCSA will, proactively, reach out to motor carriers who previously submitted applications but were missing Registered Apprenticeship numbers to determine whether the motor carriers are still interested in participating in the SDAP Program.

All other motor carrier requirements remain unchanged from the notice published on January 14, 2022 (87 FR 2477).

Sue Lawless,
Acting Deputy Administrator.

[FR Doc. 2024-10538 Filed 5-13-24; 8:45 am]

BILLING CODE 4910-EX-P